ENVIRONMENTAL PROTECTION AGENCY

[EPA-HQ-OECA-2014-0132; FRL 9912-38-OEI]

Information Collection Request Submitted to OMB for Review and Approval; Comment Request; Recordkeeping Requirements for Producers, Registrants, and Applicants of Pesticides and Pesticide Devices Under Section 8 of the Federal Insecticide, Fungicide, and Rodenticide Act (FIFRA) (Renewal)

AGENCY: Environmental Protection Agency (EPA).

ACTION: Notice.

SUMMARY: The Environmental Protection Agency has submitted an information collection request (ICR), “Recordkeeping Requirements for Producers, Registrants, and Applicants of Pesticides and Pesticide Devices under Section 8 of the Federal Insecticide, Fungicide, and Rodenticide Act (FIFRA)” (EPA ICR No. 0143.12, OMB Control No. 2070-0028) to the Office of Management and Budget (OMB) for review and approval in accordance with the Paperwork Reduction Act (44 U.S.C. 3501 et seq.). This is a proposed extension of the ICR, which is currently approved through June 30, 2014. Public comments were previously requested via the Federal Register (79 FR 14706) on March 17, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 31, 2014.

ADDRESSES: Submit your comments, referencing Docket ID Number EPA-HQ-OECA-2014-0132, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michelle Stevenson, Office of Compliance, Monitoring, Assistance, and Media Programs Division, Pesticides, Waste & Toxics Branch (2225A), Environmental Protection Agency, 1200 Pennsylvania Ave. NW., Washington, DC 20460; telephone number: (202) 564-4203.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Producers of pesticides must maintain certain records with respect to their operations and make such records available for inspection and copying as specified in section 8 of the Federal Insecticide, Fungicide, and Rodenticide Act (FIFRA) and in regulations at 40 CFR part 169. This information collection is mandatory under FIFRA section 8. It is used by the Agency to determine compliance with the Act. The information is used by EPA Regional pesticide enforcement and compliance staffs, the Office of Enforcement and Compliance Assurance (OECA), and the Office of Pesticide Programs (OPP) within the Office of Chemical Safety and Pollution Prevention (OCSPP), as well as the U.S. Department of Agriculture (USDA), the Food and Drug Administration (FDA), and other Federal agencies, States under Cooperative Enforcement Agreements, and the public.

Form Numbers: None.

Respondents/affected entities: Producers of pesticides for sale or distribution in the United States.

Respondent's obligation to respond: Mandatory (40 CFR part 169)

Estimated number of respondents: 14,447 (total).

Frequency of response: Annual

Total estimated burden: 28,894 hours (per year). Burden is defined at 5 CFR 1320.03(b)

Total estimated cost: $3,500,508 (per year), includes $0 annualized capital or operation & maintenance costs.

Changes in the Estimates: There is an increase of 5,694 hours in the total estimated respondent burden compared with the ICR currently approved by OMB. This increase is due to the growth in the number of respondents since the last ICR.

Spencer W. Clark,
Acting Director, Collection Strategies Division.

[FR Doc. 2014-15351 Filed 6-30-14; 8:45 am]

BILLING CODE 6560-50-P